DEPARTMENT OF HEALTH AND HUMAN SERVICES

Food and Drug Administration

[Docket No. FDA-2020-N-0001]

Preparation for International Cooperation on Cosmetics Regulation 14th Annual Meeting; Public Meeting; Cancellation

AGENCY: Food and Drug Administration, HHS.

ACTION: Notice of cancellation of public meeting.

SUMMARY: The Food and Drug Administration (FDA or we) is announcing the cancellation of following public meeting entitled “International Cooperation on Cosmetics Regulation (ICCR)—Preparation for ICCR-14 Meeting.” The purpose of the public meeting was to invite public input on various topics pertaining to the regulation of cosmetics.

DATES: The public meeting was to be held on April 14, 2020, from 2 p.m. to 4 p.m.

ADDRESSES: The public meeting was to be held at the Food and Drug Administration, Center for Food Safety and Applied Nutrition, 5001 Campus Dr., Wiley Auditorium (first floor), College Park, MD 20740.

FOR FURTHER INFORMATION CONTACT: Deborah Smegal, Office of Cosmetics and Colors, Food and Drug Administration, 5001 Campus Dr. (HFS-100), College Park, MD 20740, 240-402-1818, Deborah.Smegal@fda.hhs.gov.

SUPPLEMENTARY INFORMATION:

I. Background

FDA, like other government agencies, is taking the necessary steps to ensure the Agency is prepared to continue our vital public health mission in the event that our day-to-day operations are impacted by the COVID-19 public health emergency. Therefore, we are canceling or postponing all non-essential meetings through the month of April. We will reassess on an ongoing basis for future months.

Accordingly, the FDA public meeting entitled, “International Cooperation on Cosmetics Regulation (ICCR)—Preparation for ICCR—14 Meeting” announced in the Federal Register of March 3, 2020 (85 FR 12569), is canceled. Additionally, we will be closing the docket to public comments, since the purpose of the docket was to obtain information for the FDA public meeting and to help FDA prepare for the ICCR-14 meeting. Thus, because we are canceling the FDA public meeting, public comments are no longer necessary.

As of March 20, 2020, the status of the ICCR-14 meeting itself remains to be determined.

Please contact Deborah Smegal in FDA's Office of Cosmetics and Colors (See FOR FURTHER INFORMATION CONTACT) with questions.

Dated: March 20, 2020.
Lowell J. Schiller,
Principal Associate Commissioner for Policy.

[FR Doc. 2020-06280 Filed 3-25-20; 8:45 am]

BILLING CODE 4164-01-P